DEPARTMENT OF TRANSPORTATION

Federal Aviation Administration

14 CFR Part 39

[Docket No. FAA-2012-0266; Directorate Identifier 2011-NM-061-AD]

RIN 2120-AA64

Airworthiness Directives; Airbus Airplanes

AGENCY: Federal Aviation Administration (FAA), DOT.

ACTION: Notice of proposed rulemaking (NPRM).

SUMMARY: We propose to adopt a new airworthiness directive (AD) for all Airbus Model A318, A319, and A320 series airplanes. This proposed AD was prompted by reports of unsuccessful slide deployments during scheduled deployment tests, and failed functional tests of the release travel of the slide release mechanism. This proposed AD would require inspecting the off-wing slide release cables on the left- and right-hand sides to determine whether a certain part number is installed, and replacement if necessary. We are proposing this AD to prevent non-availability of left- or right-hand off-wing exit slides that could impair emergency evacuation of the passengers and flightcrew, and could result in personal injuries.

DATES: We must receive comments on this proposed AD by April 30, 2012.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-40, 1200 New Jersey Avenue SE., Washington, DC, between 9 a.m. and 5 p.m., Monday through Friday, except Federal holidays.

For service information identified in this proposed AD, contact Airbus, Airworthiness Office—EAS, 1 Rond Point Maurice Bellonte, 31707 Blagnac Cedex, France; telephone +33 5 61 93 36 96; fax +33 5 61 93 44 51; email: account.airworth-eas@airbus.com; Internet http://www.airbus.com. You may review copies of the referenced service information at the FAA, Transport Airplane Directorate, 1601 Lind Avenue SW., Renton, Washington. For information on the availability of this material at the FAA, call 425-227-1221.

Examining the AD Docket

You may examine the AD docket on the Internet at http://www.regulations.gov; or in person at the Docket Operations office between 9 a.m. and 5 p.m., Monday through Friday, except Federal holidays. The AD docket contains this proposed AD, the regulatory evaluation, any comments received, and other information. The street address for the Docket Operations office (telephone (800) 647-5527) is in the ADDRESSES section. Comments will be available in the AD docket shortly after receipt.

FOR FURTHER INFORMATION CONTACT: Sanjay Ralhan, Aerospace Engineer, International Branch, ANM-116, Transport Airplane Directorate, FAA, 1601 Lind Avenue SW., Renton, Washington 98057-3356; telephone (425) 227-1405; fax (425) 227-1149.

SUPPLEMENTARY INFORMATION:

Comments Invited

We invite you to send any written relevant data, views, or arguments about this proposed AD. Send your comments to an address listed under the ADDRESSES section. Include “Docket No. FAA-2012-0266; Directorate Identifier 2011-NM-061-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

The European Aviation Safety Agency (EASA), which is the Technical Agent for the Member States of the European Community, has issued EASA Airworthiness Directive 2011-0015, dated January 31, 2011 (referred to after this as “the MCAI”), to correct an unsafe condition for the specified products. The MCAI states:

Several operators reported unsuccessful slide deployments during scheduled deployment tests and/or failed functional tests of the release travel of the slide release mechanism.

Investigations revealed deformation of the PTFE (Teflon) ball guide strip of the release cable, Part Number (P/N) L32A319-160-001. In such a situation the travel of the cable could be insufficient to open the valve when opening the exit, thereby reducing the gas flow from the reservoir to the off-wing slide in automatic or manual mode. As a result, the aspirator will not ingest sufficient ambient air for slide inflation.

This condition, if not corrected, could lead to the non-availability of LH [left-hand] and/or RH [right-hand] off-wing exit slides for evacuation that would impair emergency evacuation of the aeroplane occupants, possibly resulting in personal injuries.

For the reasons described above, this [EASA] AD requires the identification [inspection] and replacement of both Left hand (LH) and Right Hand (RH) off-wing slide release cables P/N L32A319-160-001 with P/N L32A320-180, which have precise stainless steel ball bearing stripes instead of stamped PTFE stripes.

You may obtain further information by examining the MCAI in the AD docket.

Relevant Service Information

Airbus has issued the service bulletins listed below. The actions described in this service information are intended to correct the unsafe condition identified in the MCAI.

• Airbus Service Bulletin A320-28-1118, Revision 03, including Appendix 1, dated May 12, 2009.

• Airbus Service Bulletin A320-28-1132, Revision 04, including Appendices 1 and 2, dated February 1, 2010.

• Airbus Service Bulletin A320-28-1145, Revision 01, including Appendix 01, dated April 27, 2007.

• Airbus Service Bulletin A320-28-1154, Revision 01, dated April 7, 2008.

• Airbus Service Bulletin A320-53-1227, Revision 01, dated May 31, 2010.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

Differences Between This AD and the MCAI or Service Information

This AD differs from the MCAI and/or service information as follows: Although the MCAI states that no person may install an off-wing slide release cable having P/N L32A319-160-001 on any airplane after the modifications specified in paragraphs (g) or (h) of this AD have been done, or on airplanes that do not have P/N L32A319-160-001 installed as of the effective date of the MCAI, this AD requires that, as of the effective date of this AD, no person may install an off-wing slide release cable having P/N L32A319-160-001 on any airplane.

Costs of Compliance

Based on the service information, we estimate that this proposed AD would affect about 694 products of U.S. registry. We also estimate that it would take about 39 work-hours per product to comply with the basic requirements of this proposed AD. The average labor rate is $85 per work-hour. Required parts would cost about $5,750 per product. Where the service information lists required parts costs that are covered under warranty, we have assumed that there will be no charge for these parts. As we do not control warranty coverage for affected parties, some parties may incur costs higher than estimated here. Based on these figures, we estimate the cost of the proposed AD on U.S. operators to be $6,291,110, or $9,065 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

We prepared a regulatory evaluation of the estimated costs to comply with this AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

Airbus: Docket No. FAA-2012-0266; Directorate Identifier 2011-NM-061-AD.

(a) Comments Due Date

We must receive comments by April 30, 2012.

(b) Affected ADs

None.

(c) Applicability

This AD applies to all Airbus Model A318-111, -112, -121, and -122 airplanes; Model A319-111, -112, -113, -114, -115, -131, -132, and -133 airplanes; and Model A320-111, -211, -212, -214, -231, -232, and -233 airplanes; certificated in any category; all serial numbers.

(d) Subject

Air Transport Association (ATA) of America Code 28: Fuel tanks; 53: Fuselage.

(e) Reason

This AD was prompted by reports of unsuccessful slide deployments during scheduled deployment tests, and failed functional tests of the release travel of the slide release mechanism. We are issuing this AD to prevent non-availability of left- or right-hand off-wing exit slides that could impair emergency evacuation of the passengers and flightcrew, and could result in personal injuries.

(f) Compliance

You are responsible for having the actions required by this AD performed within the compliance times specified, unless the actions have already been done.

(g) Inspection and Modification

Except as provided by paragraph (l) of this AD, within 36 months after the effective date of this AD, inspect the off-wing slide release cables on the left- and right-hand sides to determine whether part number (P/N) L32A319-160-001 is installed. A review of airplane maintenance records is acceptable in lieu of this inspection if the part number of the off-wing slide release cables can be conclusively determined from that review. If any off-wing slide release cable has P/N L32A319-160-001, before further flight, replace with a new off-wing slide release cable having P/N L32A320-180, in accordance with the Accomplishment Instructions of Airbus Service Bulletin A320-53-1227, Revision 01, dated May 31, 2010.

(h) Optional Modification

Installation of a shorter off-wing slide release cable having P/N L32A319-160-002 with relocated inflation bottle during installation of the additional center tank, in accordance with the Accomplishment Instructions of the applicable service bulletin identified in paragraphs (h)(1) through (h)(4) of this AD, is acceptable for compliance with the requirements of paragraph (g) of this AD.

(1) Airbus Service Bulletin A320-28-1118, Revision 03, including Appendix 1, dated May 12, 2009.

(2) Airbus Service Bulletin A320-28-1132, Revision 04, including Appendices 1 and 2, dated February 1, 2010.

(3) Airbus Service Bulletin A320-28-1145, Revision 01, including Appendix 01, dated April 27, 2007.

(4) Airbus Service Bulletin A320-28-1154, Revision 01, dated April 7, 2008.

(i) Parts Installation

As of the effective date of this AD, no person may install an off-wing slide release cable having P/N L32A319-160-001 on any airplane.

(j) Credit for Previous Actions

This paragraph provides credit for the actions required by paragraph (g) of this AD, if installation of off-wing slide release cables having P/N L32A320-180 was done before the effective date of this AD using the applicable service bulletin identified in paragraph (j)(1) through (j)(6) of this AD.

(1) Airbus Service Bulletin A320-53-1227, dated March 24, 2010.

(2) Airbus Service BulletinA320-28-1132, dated October 13, 2004.

(3) Airbus Service Bulletin A320-28-1132, Revision 01, dated October 12, 2006.

(4) Airbus Service Bulletin A320-28-1132, Revision 02, dated November 12, 2008.

(5) Airbus Service Bulletin A320-28-1132, Revision 03, dated October 5, 2009.

(6) Airbus Service Bulletin A320-28-1145, dated February 28, 2006.

(k) Exception

Provided that off-wing slide release cables have not been replaced with a slide release cable having P/N L32A319-160-001, airplanes having Airbus modification 150811, 26138, 37856, or 39673 installed in production are acceptable for compliance with the requirements of paragraph (g) of this AD.

(l) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Sanjay Ralhan, Aerospace Engineer, International Branch, ANM-116, Transport Airplane Directorate, FAA, 1601 Lind Avenue SW., Renton, Washington 98057-3356; telephone (425) 227-1405; fax (425) 227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(m) Related Information

Refer to MCAI European Aviation Safety Agency (EASA) Airworthiness Directive 2011-0015, dated January 31, 2011; and the service information specified in paragraphs (m)(1) through (m)(5) of this AD; for related information:

(1) Airbus Service Bulletin A320-28-1118, Revision 03, including Appendix 1, dated May 12, 2009.

(2) Airbus Service Bulletin A320-28-1132, Revision 04, including Appendices 1 and 2, dated February 1, 2010.

(3) Airbus Service Bulletin A320-28-1145, Revision 01, including Appendix 01, dated April 27, 2007.

(4) Airbus Service Bulletin A320-28-1154, Revision 01, dated April 7, 2008.

(5) Airbus Service Bulletin A320-53-1227, Revision 01, dated May 31, 2010.

Issued in Renton, Washington, on March 1, 2012.
Jeffrey E. Duven,
Acting Manager, Transport Airplane Directorate, Aircraft Certification Service.

[FR Doc. 2012-6465 Filed 3-15-12; 8:45 am]

BILLING CODE 4910-13-P